DEPARTMENT OF TRANSPORTATION

Federal Aviation Administration

DEPARTMENT OF INTERIOR

National Park Service

List of Units of the National Park System Exempt From the Provisions of the National Parks Air Tour Management Act

AGENCY: Federal Aviation Administration, Transportation; National Park Service, Interior.

ACTION: List of exempt parks.

SUMMARY: The National Parks Air Tour Management Act (NPATMA) requires the Federal Aviation Administration (FAA) and National Park Service (NPS) to develop an air tour management plan for units of the national park system where an operator has applied for authority to conduct commercial air tours. The FAA Modernization and Reform Act of 2012 amended various provisions of NPATMA. One provision exempted national park units with 50 or fewer annual flights from the requirement to prepare an air tour management plan or voluntary agreement and requires FAA and NPS to jointly publish a list of exempt parks. By Federal Register notice, FAA and NPS published an initial list of exempt parks in 2012 and subsequent lists for 2013 through 2015. This notice provides the annual updated list of parks that are exempt.

FOR FURTHER INFORMATION CONTACT: Keith Lusk—Mailing address: Federal Aviation Administration, 15000 Aviation Boulevard, Lawndale, California 90261. Telephone: (310) 725-3808. Email address: Keith.Lusk@faa.gov. Vicki Ward—Mailing address: Natural Sounds and Night Skies Division, National Park Service, 1201 Oakridge Drive, Suite 100-31, Fort Collins, CO 80525. Telephone: (970) 267-2117. Email address: Vicki_Ward@nps.gov.

SUPPLEMENTARY INFORMATION:

I. Authority

1. NPATMA (Pub. L. 106-181, codified at 49 U.S.C. 40128) requires the FAA and NPS to develop an air tour management plan for units of the national park system where an operator has requested authority to provide commercial air tours. The FAA Modernization and Reform Act of 2012 (2012 Act) amended various provisions of NPATMA.

2. This Federal Register Notice addresses the following 2012 Act amendment provisions (which are codified at 49 U.S.C. 40128(a)(5)):

a. Exempt national park units that have 50 or fewer commercial air tour operations each year from the requirement to prepare an air tour management plan or voluntary agreement.

b. Authorize NPS to withdraw the exemption if the Director determines that an air tour management plan or voluntary agreement is necessary to protect resources and values or visitor use and enjoyment.

c. Require FAA and NPS to publish a list each year of national parks covered by the exemption.

II. List of Exempt Parks

1. This list is based on the number of commercial air tour operations reported to the FAA and NPS by air tour operators conducting air tours under interim operating authority at national park units in calendar year 2016 for which the total operations was 50 or fewer. Parks on the exempt list are those that have at least one operator who has been granted operating authority to conduct commercial air tours over that park. Exempt parks are as follows:

Acadia National Park, ME

Aztec Ruins National Monument, NM

Big Bend National Park, TX

Black Canyon of the Gunnison National Park, CO

Capitol Reef National Park, UT

Capulin Volcano National Monument, NM

Carlsbad Caverns National Park, NM

Casa Grande Ruins National Monument, AZ

Cedar Breaks National Monument, UT

Colorado National Monument, CO

Coronado National Memorial, AZ

Devils Tower National Monument, WY

Dinosaur National Monument, UT/CO

Dry Tortugas National Park, FL

El Malpais National Monument, NM

El Morro National Monument, NM

Everglades National Park, FL

Fort Bowie National Historic Site, AZ

Fort Davis National Historic Site, TX

Fort Union National Monument, NM

Gila Cliff Dwellings National Monument, NM

Golden Spike National Historic Site, UT

Grand Teton National Park, WY

Great Sand Dunes National Park and Preserve, CO

Guadalupe Mountains National Park, TX

Hohokam Pima National Monument, AZ

Hovenweep National Monument, CO/UT

Hubbell Trading Post National Historic Site, AZ

Kings Canyon National Park, CA

Mesa Verde National Park, CO

Mojave National Preserve, CA

Montezuma Castle National Monument, AZ

Navajo National Monument, AZ

North Cascades National Park, WA

Olympic National Park, WA

Organ Pipe Cactus National Monument, AZ

Pecos National Historical Park, NM

Petrified Forest National Park, AZ

Petroglyph National Monument, NM

Pipe Spring National Monument, AZ

Rio Grande Wild and Scenic River, TX

Saguaro National Park, AZ

Salinas Pueblo Missions National Monument, NM

Sequoia National Park, CA

Sunset Crater Volcano National Monument, AZ

Timpanogos Cave National Monument, UT

Tumacacori National Historic Park, AZ

Tuzigoot National Monument, AZ

Walnut Canyon National Monument, AZ

Wupatki National Monument, AZ

Yellowstone National Park, ID/MT/WY

Yosemite National Park, CA

Yucca House National Monument, CO

Zion National Park, UT

2. NPS is authorized to withdraw a park from the exempt list if NPS determines that an air tour management plan or voluntary agreement is necessary to protect park resources and values or park visitor use and enjoyment. Under this statutory authority, the NPS Director informed the FAA Administrator in writing on September 15, 2015, that NPS withdrew the exemption for Death Valley National Park and Mount Rainier National Park and on November 2, 2017 that NPS withdrew Canyon de Chelly National Monument. Cape Hatteras National Seashore, NC; San Juan Island National Historical Park, WA; and Voyageurs National Park, MN were on the 2015 exempt list but are not on the 2016 exempt list because there is no longer any operator(s) who has applied for operating authority to conduct commercial air tours over those parks.

III. List of Exempt Parks for Future Years

The FAA and NPS will publish a list of exempt parks annually. The list could change from year to year since parks may be added to or removed from the exempt list based on the previous year's number of annual operations. In order to continue to be exempt, a park must have 50 or fewer annual commercial air tour operations in any given calendar year. The list could also change if NPS withdraws an exempted park. NPS is authorized to withdraw a park from the exempt list if NPS determines that an air tour management plan or a voluntary agreement is necessary to protect park resources and values or park visitor use and enjoyment. Pursuant to the 2012 Act, the NPS shall inform the FAA in writing of each determination to withdraw an exemption. At parks that lose exempt status, operators will return to interim operating authority requirements until an air tour management plan or a voluntary agreement has been established.

Issued in Hawthorne, CA on December 4, 2017.
Dennis E. Roberts,
Regional Administrator, Western-Pacific Region, Federal Aviation Administration.
Issued in Washington, DC on December 12, 2017.
Raymond M. Sauvajot,
Associate Director, Natural Resource Stewardship and Science, National Park Service.

Editorial note: This document was received for publication by the Office of the Federal Register on April 5, 2018.

[FR Doc. 2018-07382 Filed 4-10-18; 8:45 am]

BILLING CODE 4910-13-P